DEPARTMENT OF COMMERCE

Bureau of Industry and Security

National Infrastructure Advisory Council; Notice of Open Meeting

The National Infrastructure Advisory Council (NIAC) will meet on Friday, November 15, 2002, from 11 a.m. until 1 p.m. The meeting, which will be held telephonically, will be open to the public. Members of the public interested in attending by telephone should call (toll free) 1-888-899-7785 and, when prompted, enter passcode 1468517. In addition, a bridge to the conference call will be provided at the Truman Room of the White House Conference Center, 726 Jackson Place, NW., Washington, DC 20503. Limited seating will be available. Reservations are not accepted.

The Council advises the President of the United States on the security of information systems for critical infrastructure supporting other sectors of the economy, including banking and finance, transportation, energy, manufacturing, and emergency government services. At this meeting, the Council will receive a briefing on the draft National Strategy to Secure Cyberspace and will begin deliberations to formulate comments on the draft to be furnished to the President.

Agenda

I. Introduction of NIAC Members

II. Welcoming remarks—Richard Clarke, Special Advisor to the President for Cyberspace Security; Executive Director, NIAC

III. Welcoming remarks—Richard Davidson, Chairman, NIAC

IV. Briefing on rules and procedures governing Federal advisory committee proceedings and deliberations—Commerce Department, Office of General Counsel Staff

V. Briefing on draft National Strategy to Secure Cyberspace—Critical Infrastructure Protection Board Staff

VI. Discussion of next steps to provide comments on the Strategy and deliberations concerning comments—Mr. Clarke and Mr. Davidson, NIAC Members

Written comments may be submitted at any time before or after the meeting. However, to facilitate distribution of public presentation materials to Council members, the Council suggests that presenters forward the public presentation materials, ten days prior to the meeting date, to the following address: Ms. Wanda Rose, Critical Infrastructure Assurance Office, Bureau of Industry and Security, U.S. Department of Commerce, Room 6095, 14th Street & Constitution Avenue, NW., Washington, DC 20230.

For more information contact Wanda Rose on (202) 482-7481.

Dated: October 25, 2002.
Eric T. Werner,
Council Liaison Officer.

[FR Doc. 02-27758 Filed 10-30-02; 8:45 am]

BILLING CODE 3510-JT-M